DEPARTMENT OF EDUCATION

Office of Special Education and Rehabilitative Services; Notice Inviting Applications for New Awards for Fiscal Year (FY) 2001

AGENCY: Department of Education.

ACTION: Correction.

SUMMARY: On May 18, 2001, a notice inviting applications for new awards under the Office of Special Education and Rehabilitative Services; Grant Applications under the Special Education—Technical Assistance and Dissemination to Improve Services and Results for Children With Disabilities Program was published in the Federal Register(66 FR 27808). Under Technical Assistance and Dissemination to Improve Services and Results for Children With Disabilities Program (CFDA No. 84.326) priority on page 27808, in column 3, third sentence, in the section on Eligible Applicants inadvertently stated the authority citation for entities eligible to apply on behalf of an SEA or Freely Associated State as being section 661(b)(1)(A) of IDEA. The third sentence is corrected to read “An entity eligible to apply for funding under Section 661(b)(1) of IDEA may apply on behalf of an SEA or a Freely Associated State * * *”.

FOR FURTHER INFORMATION CONTACT: For further information on this notice contact Debra Sturdivant, U.S. Department of Education, 600 Independence Avenue, SW, room 3317, Switzer Building, Washington, D.C. 20202-2641. FAX: (202) 205-8717 (FAX is the preferred method for requesting information). Telephone: (202) 205-8038. Internet: Debra_Sturdivant@ed.gov

If you use a TDD you may call the Federal Information Relay Service (FIRS) at 1-800-877-8339.

Individuals with disabilities may obtain this document in an alternative format (e.g., Braille, large print, audiotape, or computer diskette) on request to the contact persons listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1485.

Dated: June 7, 2001.
Francis V. Corrigan,
Deputy Director, National Institute on Disability and Rehabilitative Research.

[FR Doc. 01-14941 Filed 6-13-01; 8:45 am]

BILLING CODE 4000-01-U